DEPARTMENT OF EDUCATION

National Assessment Governing Board Meeting

AGENCY: National Assessment Governing Board, Department of Education.

ACTION: Notice of open and closed meetings.

SUMMARY: This notice sets forth the agenda, time, and instructions to access or participate in the National Assessment Governing Board (hereafter referred to as Governing Board or Board) meetings scheduled for March 2-3, 2023, in Alexandria, VA. This notice provides information about the meetings to members of the public who may be interested in attending the meetings and/or providing written comments related to the work of the Governing Board.

ADDRESSES: Westin Alexandria Old Town, 400 Courthouse Square, Alexandria, VA 22314.

DATES: March 2-3, 2023.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION: Notice of the meetings is required under Section 1009(a)(2) of 5 U.S.C. Chapter 10 (Federal Advisory Committees).

Statutory Authority and Function: The Governing Board is established under the National Assessment of Educational Progress Authorization Act, Title III of Public Law 107-279 (20 U.S.C. 9621). Information on the Governing Board and its work can be found at www.nagb.gov.

The Governing Board formulates policy for the National Assessment of Educational Progress (NAEP) administered by the National Center for Education Statistics (NCES). The Governing Board's responsibilities include:

“(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.”

Standing Committee Meetings

The Governing Board's standing committees will meet to conduct regularly scheduled work planned for the quarterly board meeting and any items undertaken by standing committees for consideration by the full Governing Board. (Please see standing committee meeting minutes for previous meetings, available at https://www.nagb.gov/governing-board/quarterly-board-meetings.html). Standing committee meeting agendas and meeting materials for the March 2-3, 2023, quarterly board meeting will be posted on the Governing Board's website, www.nagb.gov, no later than five business days prior to the meetings.

Standing Committee Meetings

Wednesday, March 1, 2023

Nominations Committee (Closed Session)

5:30-6:45 p.m.

The Nominations Committee will meet in closed session on March 1, 2023, from 5:30 to 6:45 p.m. to review and discuss the committee member ratings for finalists in open categories for Governing Board 2024 vacancies and finalize recommendations for submission to the Board for action. These discussions pertain solely to internal personnel rules and practices of an agency and information of a personal nature where disclosure would constitute a clearly unwarranted invasion of personal privacy. As such, the discussions are protected by exemptions 2 and 6 of the Government Sunshine Act, 5 U.S.C. 552b(c).

Thursday, March 2, 2023

Executive Committee Meeting

8:30-10 a.m. (Closed Session)

The Executive Committee will meet in closed session on March 2, 2023, from 8:30 to 10 a.m. to discuss the NAEP and Governing Board's budgets, planned procurements and the NAEP Assessment Schedule. These discussions must be kept confidential to maintain the integrity of the federal budgeting and acquisition processes. Public disclosure of this confidential information would significantly impede implementation of the NAEP assessment program if conducted in open session. Such matters are protected by exemption 9(B) of the Government Sunshine Act, 5 U.S.C. 552b(c).

Thursday, March 2, 2023

Assessment Development Committee

3:45-5:15 p.m. (Open Session)

5:15-6 p.m. (Closed Session)

The Assessment Development Committee will meet in open session on March 2, 2023, to receive a project update on the 2028 NAEP Science Assessment Framework, to discuss the next steps for 2030 Writing Assessment Framework and discuss recommendations for future NAEP assessment updates. The Assessment Development Committee will meet in closed session on March 2, 2023, from 5:15 to 6 p.m. to preview initial results from pretesting of NAEP Mathematics and Reading Items assessment items. These items have not been released to the public. Public disclosure of this confidential information would significantly impede implementation of the NAEP assessment program if conducted in open session. Such matters are protected by exemption 9(B) of the Government Sunshine Act, 5 U.S.C. 552b(c).

Thursday, March 2, 2023

Committee on Standards, Design and Methodology

3:45-4:20 p.m. (Closed Session)

4:20-5 p.m. (Open Session)

5-6 p.m. (Open Joint Session with Reporting & Dissemination Committee)

The Committee on Standards, Design and Methodology (COSDAM) will meet in closed session on March 2, 2023, from 3:45-4:20 p.m., to receive an update and discuss Adaptive Testing for NAEP. The session will include preliminary data from recently completed pilot studies that are not yet available to the public. Public disclosure of this confidential information would significantly impede implementation of the NAEP assessment program if conducted in open session. Such matters are protected by exemption 9(B) of the Government Sunshine Act, 5 U.S.C. 552b(c).

COSDAM will then meet in open session from 4:20-5 p.m. and discuss next steps for NAEP State Sampling. The committee will then convene in an open joint session with the Reporting and Dissemination Committee to discuss strategies for disseminating Achievement Levels findings.

Thursday, March 2, 2023

Reporting and Dissemination Committee (R&D)

3:45-5 p.m. (Open Session)

5-6 p.m. (Open Joint Session with Committee on Standards, Design and Methodology)

The Reporting and Dissemination Committee will meet on March 2, 2023, to discuss release plans for results from the NAEP Civics and NAEP U.S. History assessments as well as general communications strategies. The Committee then will convene in a joint session with the Committee on Standards, Design and Methodology to discuss dissemination of Achievement Levels descriptions.

Quarterly Governing Board Meeting

The plenary sessions of the Governing Board's March 2023 quarterly meeting will be held on the following dates and times:

Thursday, March 2, 2023

Open Meeting: 10:10 a.m.-2:15 p.m.

Closed Meeting: 2:15-3:30 p.m.

Friday, March 3, 2023

Open Meeting: 9 a.m.-12 p.m.

Closed Meeting: 12:15-1:30 p.m.

Open Meeting: 1:45-3:30 p.m.

March 2, 2023, Meeting

On Thursday, March 2, 2023, the plenary session of the Governing Board meeting will convene in open session from 10:10 a.m. to 2:15 p.m. The meeting will start with welcome remarks from Beverly Perdue, Chair of the Governing Board, followed by a motion to approve the meeting agenda for the March 2-3, 2023, quarterly Governing Board meeting and minutes from the November 17-18, 2022, quarterly Governing Board meeting. Thereafter, from 10:15 a.m. to 10:45 a.m., Lesley Muldoon, Executive Director of the Governing Board, will update members on ongoing work followed by an update from Peggy Carr, Commissioner, NCES, on NAEP activities from 10:45 to 11:15 a.m.

From 11:15 to 11:45 a.m., members will receive a briefing on Ensuring Fair and Unbiased NAEP Assessments. From 11:45 a.m. to 1:15 p.m. members will meet in small groups to discuss strategies to assure commitment to all students in administering fair and unbiased NAEP assessments. The members will debrief on the small group discussions from 1:30 to 2:15 p.m.

NCES Commissioner Peggy Carr, will then provide an update on the NAEP Budget and Assessment Schedule in closed session from 2:15 to 3:30 p.m. These discussions must be kept confidential to maintain the integrity of the federal budgeting and acquisition processes. Public disclosure of this confidential information would significantly impede implementation of the NAEP assessment program if conducted in open session. Such matters are protected by exemption 9(B) of the Government Sunshine Act, 5 U.S.C. 552b(c).

Following a 15-minute break, members will convene in standing committee meetings from 3:45 to 6 p.m., as described above. The March 2, 2023, session of the Board meeting will adjourn at 6 p.m.

Friday, March 3, 2023

On March 3, 2023, the plenary session of the Governing Board will begin in closed session from 8 to 9 a.m. to receive a briefing from the Nominations Committee on its recommendations for candidates to fill Governing Board vacancies. Members will review the Nominations Committee's recommendations for the final slate of candidates for submission to the Secretary of Education for appointments that begin October 1, 2023. These discussions pertain solely to internal personnel rules and practices of an agency and information of a personal nature where disclosure would constitute a clearly unwarranted invasion of personal privacy. As such, the discussions are protected by exemptions 2 and 6 of § 552b(c) of Title 5 of the United States Code.

The Governing Board will then transition to an open session from 9 to 9:05 a.m. to vote on the 2023-2024 slate of candidates that will be submitted to the Secretary of Education for consideration.

After a 10-minute break, members will convene in open session to receive updates on the NAEP Science Assessment Framework from 9:15 to 10:45 a.m. followed by a discussion and vote on reporting achievement level descriptions for Civics, U.S. History, and Science from 10:45 to 11:30 a.m. Thereafter members will have open discussion time from 11:30 a.m. to 12:00 p.m.

Following a 15-minute break, the Board will convene in closed session from 12:15 to 1:30 p.m. to receive a briefing on results from the 2022 NAEP Civics and U.S. History Report Cards from 12:15 until 1:30 p.m. These items have not been released to the public. Public disclosure of this confidential information would significantly impede implementation of the NAEP assessment program if conducted in open session. Such matters are protected by exemption 9(B) of the Government Sunshine Act, 5 U.S.C. 552b(c).

After a 15-minute break, from 1:45 to 2:15 p.m. members will convene in open session to discuss and vote on the release plans for the 2022 NAEP Civics and U.S. History Report Cards. From 2:15 to 3:15 p.m. members will discuss their experiences with engagement and outreach with members of Congress. The final session of the March 3, 2023, meeting will take place from 3:15 to 3:30 p.m. with a preview of the May 2023 Quarterly Board meeting.

The March 3, 2023, session of the Governing Board meeting will adjourn at 3:30 p.m.

The quarterly board meeting and standing committee meeting agendas, along with the meeting materials, will be posted on the Governing Board's website at www.nagb.gov no later than five working days prior to each meeting.

Instructions for Participating in the Meetings

Registration: Members of the public may attend in-person to all open sessions of the Governing Board's March 2-3, 2023, meetings. A link to register for virtual attendance for the open sessions and instructions for how to register will be posted on the Governing Board's website at www.nagb.gov no later than 5 business days prior to the meeting. Registration is required to join the meeting virtually.

Public Comment: Written comments related to the work of the Governing Board and its committees may be submitted electronically or in hard copy to the attention of the Executive Officer/Designated Federal Official (DFO) via email at Munira.Mwalimu@ed.gov no later than 10 business days prior to the meeting. Written comments should be directed to the DFO as they relate to committee and Board meeting work and should reference the relevant agenda item.

Access to Records of the Meeting: Pursuant to 5 U.S.C. 1009(b), the public may inspect the meeting materials at www.nagb.gov, which will be made available no later than five business days prior to each meeting. The public may also inspect the meeting materials and other Governing Board records at 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO noted above.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III, section 301—National Assessment of Educational Progress Authorization Act (20 U.S.C. 9621).

Lesley Muldoon,
Executive Director, National Assessment Governing Board (NAGB), U.S. Department of Education.

[FR Doc. 2023-02838 Filed 2-15-23; 8:45 am]

BILLING CODE 4000-01-P